DEPARTMENT OF HEALTH AND HUMAN SERVICES

Health Care Financing Administration

42 CFR Parts 413 and 489

[HCFA-1005-F3]

RIN 0938-AI56

Medicare Program; Prospective Payment System for Hospital Outpatient Services; Correction

AGENCY: Health Care Financing Administration (HCFA), HHS.

ACTION: Correcting amendments.

SUMMARY: In the April 7, 2000 issue of the Federal Register (65 FR 18434), we published a final rule with a comment period that implemented a prospective payment system for hospital outpatient services furnished to Medicare beneficiaries. In addition, the final rule established requirements and standards for facilities or organizations seeking provider-based status. This document corrects technical errors in the preamble and regulations text made in that part of the final rule related to provider-based requirements. (A document published in the Federal Register on October 3, 2000 (65 FR 58919) delayed the effective date of the provider-based regulations from October 10, 2000 to January 10, 2001 and made a conforming change in the regulations text.)

EFFECTIVE DATE: January 10, 2001.

FOR FURTHER INFORMATION CONTACT: Linda McKenna, (410) 786-4537.

SUPPLEMENTARY INFORMATION: In FR Doc. 00-8215 of April 7, 2000 (65 FR 18434), there were several typographical errors. The provisions in this document are effective as if they had been included in the document published in the Federal Register on April 7, 2000.

Correction of Errors

In FR Doc. 00-8215 on April 7, 2000 (65 FR 18434), make the following corrections:

Corrections to the Preamble

On page 18434, column 1, in the Dates section, “§ 412.24(d)(6)” is corrected to read “§ 413.24(d)(6)”, “§ 489.24(h)” is corrected to read “§ 489.24”.

Corrections to the Regulations Text

List of Subjects

42 CFR Part 413

Health facilities, Kidney diseases, Medicare, Puerto Rico, Reporting and recordkeeping requirements.

42 CFR Part 489

Health facilities, Medicare, Reporting and recordkeeping requirements.

Accordingly, 42 CFR parts 413 and 489 are corrected by making the following correcting amendments:

PART 413—PRINCIPLES OF REASONABLE COST REIMBURSEMENT; PAYMENT FOR END-STAGE RENAL DISEASE SERVICES; PROSPECTIVELY DETERMINED PAYMENT RATES FOR SKILLED NURSING FACILITIES

1. The authority citation for part 413 continues to read as follows:

Authority: Secs. 1102, 1812(d), 1814(b), 1815, 1833(a), (i), and (n), 1871, 1881, 1883, and 1886 of the Social Security Act (42 U.S.C. 1302, 1395f(b), 1395g, 13951, 13951(a), (i), and (n), 1395x(v), 1395hh, 1395rr, 1395tt, and 1395ww).

§ 413.65 [Corrected]

2. In § 413.65, the following corrections are made:

A. In paragraph (d)(7)(iii), the reference to paragraph “(d)(7)” is corrected to read “(d)(7)(i)”.

B. In paragraph (f)(3), the reference to paragraph “(b)(3)(ii)” is corrected to read “(d)(3)(ii)”.

C. In paragraph (j)(3), the reference to paragraph “(h)” is corrected to read “(i)”.

D. In paragraph (j)(4), the reference to paragraph “(i)(5)” is corrected to read “(j)(5)”.

E. In paragraph (j)(5), in the second sentence, the reference to paragraph “(i)(5)” is corrected to read “(j)(5)”.

PART 489—PROVIDER AGREEMENTS AND SUPPLIER APPROVAL

1. The authority citation for part 489 continues to read as follows:

Authority: Secs. 1102 and 1871 of the Social Security Act (42 U.S.C. 1302 and 1395hh).

§ 489.24 [Corrected]

2. In § 489.24, in paragraph (i), the reference to “§ 416.35” is corrected to read “§ 413.65”.

Authority: Section 1833(t) of the Social Security Act (42 U.S.C. 1395l(t)).

(Catalog of Federal Domestic Assistance Program No. 93.774; Medicare—Supplementary Medical Insurance Program)
Dated: December 18, 2000.
Brian P. Burns,
Deputy Assistant Secretary for Information Resources Management.

[FR Doc. 01-654 Filed 1-8-01; 8:45 am]

BILLING CODE 4120-01-M